DEPARTMENT OF JUSTICE

[OMB Number 1121-0269]

Agency Information Collection Activities; Proposed eCollection eComments Requested; Reinstatement, With Change, of a Previously Approved Collection for Which Approval Has Expired: Census of Publicly Funded Forensic Crime Laboratories (CPFFCL)

AGENCY: Bureau of Justice Statistics, Department of Justice.

ACTION: 30-Day notice.

SUMMARY: The Bureau of Justice Statistics (BJS), Department of Justice (DOJ), will be submitting the following information collection request to the Office of Management and Budget (OMB) for review and approval in accordance with the Paperwork Reduction Act of 1995.

DATES: Comments are encouraged and will be accepted for 30 days until March 3, 2025.

FOR FURTHER INFORMATION CONTACT: If you have comments especially on the estimated public burden or associated response time, suggestions, or need a copy of the proposed information collection instrument with instructions or additional information, please contact: Matt Durose (email: Matt.Durose@usdoj.gov; telephone: 202-598-0295), Bureau of Justice Statistics, 810 Seventh Street NW, Washington, DC 20531.

SUPPLEMENTARY INFORMATION: The proposed information collection was previously published in the Federal Register on November 27, 2024, allowing a 60-day comment period. BJS received no comments under the 60-day notice.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number [1121-0296]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Reinstatement, with change, of a previously approved collection for which approval has expired.

2. Title of the Form/Collection: 2024 Census of Publicly Funded Forensic Crime Laboratories (CPFFCL)

3. Agency form number, if any, and the applicable component of the Department of Justice sponsoring the collection: The form number is CPFFCL-24. The applicable component within the Department of Justice is the Bureau of Justice Statistics (BJS), in the Office of Justice Programs.

4. Affected public who will be asked or required to respond, as well as a brief abstract:

Affected Public: Affected public are state and local government agencies. The 2024 CPFFCL is revised from the 2020 CPFFCL. BJS plans to field the 2024 CPFFCL from March through October 2025. Respondents will be the staff at the publicly funded forensic crime labs.

Abstract: Since 2002, the Bureau of Justice Statistics (BJS) has periodically conducted the Census of Publicly Funded Forensic Crime Laboratories (CPFFCL) through a survey that collects data on the staffing, budgets, workloads, resources, policies, and procedures among federal, state, and local crime labs. The 2024 CPFFCL will be the sixth administration. It will provide insight on emerging issues and challenges facing crime labs since the CPFFCL was last conducted in 2020. BJS uses the information gathered in CPFFCL in published reports and statistics. The reports will be made available to the U.S. Congress, Executive Office of the President, practitioners, researchers, students, the media, others interested in criminal justice statistics, and the general public via the BJS website.

5. Obligation to Respond: The obligation to respond is voluntary.

6. Total Estimated Number of Respondents: A projected 350 respondents from individual labs and multi-lab systems will complete form CPFFCL-24.

7. Estimated Time per Respondent: CPFFCL-24 will take an average of 90 minutes (1.5 hours) for each of the 350 respondents to complete. In addition, an estimated 225 respondents will be contacted for data quality follow-up at 15 minutes (.25 hours) per respondent.

8. Frequency: Each respondent will complete the CPFFCL-24 once.

9. Total Estimated Annual Time Burden: The total burden hours for this collection is 581.

10. Total Estimated Annual Other Costs Burden: $907,183.

Total Burden Hours
Activity | Number of respondents | Frequency | Total annual responses | Time per response | Total annual burden (hours)
Survey | 350 | 1 | 350 | 90 min (1.5 hrs.) | 525
Data Quality Follow-Up | 225 | 1 | 225 | 15 min (.25 hrs.) | 56
Unduplicated Totals | 350 |  | 300 |  | 581

If additional information is required, contact: Darwin Arceo, Department Clearance Officer, Policy and Planning Staff, Justice Management Division, United States Department of Justice, Two Constitution Square, 145 N Street NE, 4W-218, Washington, DC 20530.

Dated: January 28, 2025.
Darwin Arceo,
Department Clearance Officer for PRA, U.S. Department of Justice.

[FR Doc. 2025-02055 Filed 1-30-25; 8:45 am]

BILLING CODE 4410-18-P